DEPARTMENT OF COMMERCE

International Trade Administration

[A-122-866]

Sodium Sulfate Anhydrous From Canada: Postponement of Preliminary Determination in the Less-Than-Fair-Value Investigation

AGENCY: Enforcement and Compliance, International Trade Administration, Department of Commerce.

DATES: Applicable August 21, 2019.

FOR FURTHER INFORMATION CONTACT: Davina Friedmann or Daniel Deku, AD/CVD Operations, Office VI, Enforcement and Compliance, International Trade Administration, U.S. Department of Commerce, 1401 Constitution Avenue NW, Washington, DC 20230; telephone: (202) 482-0698 or (202) 482-5075, respectively.

SUPPLEMENTARY INFORMATION:

Background

On April 17, 2019, the Department of Commerce (Commerce) initiated a less-than-fair-value (LTFV) investigation of imports of sodium sulfate anhydrous from Canada.¹ Currently, the preliminary determination is due no later than September 4, 2019.

¹ See Sodium Sulfate Anhydrous from Canada: Initiation of Less-Than-Fair-Value Investigation, 84 FR 17138 (April 24, 2019).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.²

² See 19 CFR 351.205(e).

On July 24, 2019, the petitioners ³ submitted a timely request that Commerce postpone the preliminary determination in this LTFV investigation.⁴ The petitioners stated that the purpose of their request is to provide Commerce with adequate time to solicit information from the respondents and to allow Commerce and the petitioners sufficient time to analyze the respondents' questionnaire responses.⁵

³ The petitioners are Cooper Natural Resources, Inc., Elementis Global LLC, and Searles Valley Minerals.

⁴ See Petitioners' Letter, “Sodium Sulfate Anhydrous from Canada: Petitioners' Request to Postpone the Antidumping Investigation Preliminary Determination,” dated July 24, 2019.

⁵ Id.

For the reasons stated above, and because there are no compelling reasons to deny the request, Commerce, in accordance with section 733(c)(1) of the Act and 19 CFR 351.205(e), is postponing the deadline for the preliminary determination by 50 days (i.e., 190 days after the date on which this investigation was initiated). As a result, Commerce will issue its preliminary determination no later than October 24, 2019.

Pursuant to section 735(a)(l) of the Act and 19 CFR 351.210(b)(1), the deadline for the final determination will continue to be 75 days after the date of the preliminary determination, unless postponed at a later date.

Notification to Interested Parties

This notice is issued and published pursuant to section 733(c)(2) of the Act and 19 CFR 351.205(f)(1).

Dated: August 15, 2019.
Jeffrey I. Kessler,
Assistant Secretary for Enforcement and Compliance.

[FR Doc. 2019-18024 Filed 8-20-19; 8:45 am]

BILLING CODE 3510-DS-P